DEPARTMENT OF ENERGY

President's Council of Advisors on Science and Technology Meeting

AGENCY: Office of Science, Department of Energy.

ACTION: Notice of partially-closed meeting.

SUMMARY: This notice sets forth the schedule and summary agenda for an open meeting of the President's Council of Advisors on Science and Technology (PCAST), and describes the functions of the Council. The Federal Advisory Committee Act (FACA) requires that public notice of these meetings be announced in the Federal Register.

DATES: February 3, 2020; 8:30 a.m. to 5:30 p.m.

February 4, 2020; 8:30 a.m. to 12:30 p.m.

ADDRESSES: The meeting will be held at the Eisenhower Executive Office Building, 1650 Pennsylvania Avenue NW, Washington, DC 20502.

FOR FURTHER INFORMATION CONTACT: Individuals from the public who wish to attend must register using the following email address: PCAST@ostp.eop.gov. Please note that public seating for this meeting is limited and is available on a first-come, first-served basis. Questions about the meeting should be directed to Edward McGinnis, Executive Director, PCAST, at: (202) 456-6076 or email: PCAST@ostp.eop.gov.

SUPPLEMENTARY INFORMATION: PCAST is an advisory group of the nation's leading scientists and engineers, appointed by the President to augment the science and technology advice available to him from inside the White House, cabinet departments, and other Federal agencies. See the Executive Order at whitehouse.gov. PCAST is consulted about and provides analyses and recommendations concerning a wide range of issues where understandings from the domains of science, technology, and innovation may bear on the policy choices before the President. PCAST is chaired by Dr. Kelvin Droegemeier, Director, Office of Science and Technology Policy, Executive Office of the President, The White House. Information about PCAST can be found at: https://science.osti.gov/About/PCAST.

Type of Meeting: Open and Closed.

Proposed Schedule and Agenda:

Open Portion of the Meeting: During this open portion of the meeting, PCAST is scheduled to discuss the new PCAST subcommittees and the NSB Science and Engineering Indicators Report, among other PCAST-related matters.

Closed Portion of the Meeting: PCAST may hold a closed portion of the meeting currently estimated to last for up to approximately one hour. This meeting will be closed to the public because such portion of the meeting is likely to disclose matters that are to be kept secret in the interest of national defense or foreign policy under 5 U.S.C. 552b(c)(1).

Public Comments: It is the policy of the PCAST to accept written public comments no longer than 20 pages and to accommodate oral public comments whenever possible. The PCAST expects that public statements presented at its meetings will not be repetitive of previously submitted oral or written statements.

The public comment period for this meeting will take place on February 4, 2020, at a time specified in the meeting agenda. This public comment period is designed only for substantive commentary on PCAST's work, not for business marketing purposes.

Oral Comments: To be considered for the public speaker list at the meeting, interested parties should register to speak at PCAST@ostp.eop.gov, no later than 9:00 a.m. Eastern Time on January 29, 2020. To accommodate as many speakers as possible, the time for public comments will be limited to two (2) minutes per person, with a total public comment period of up to 10 minutes. If more speakers register than there is space available on the agenda, PCAST will select speakers on a first-come, first-served basis from those who applied. Those not able to present oral comments may always file written comments with the committee. Speakers are requested to bring at least 25 copies of their oral comments for distribution to the PCAST members.

Written Comments: Although written comments are accepted continuously, written comments should be submitted to PCAST@ostp.eop.gov no later than 12:00 p.m. Eastern Time on January 29, 2020 so that the comments may be made available to the PCAST members prior to this meeting for their consideration.

Please note that because PCAST operates under the provisions of FACA, all public comments and/or presentations will be treated as public documents and will be made available for public inspection, including being posted on the PCAST website.

Meeting Accommodations: Individuals requiring special accommodation to access this public meeting should email PCAST@ostp.eop.gov at least ten business days prior to the meeting so that appropriate arrangements can be made.

Signed in Washington, DC, on January 10, 2020.
LaTanya Butler,
Deputy Committee Management Officer.

[FR Doc. 2020-00511 Filed 1-14-20; 8:45 am]

BILLING CODE 6450-01-P